NUCLEAR REGULATORY COMMISSION

Notice of Opportunity To Comment on Model Safety Evaluation on Elimination of Typical License Condition Requiring Reporting of Violations of Section 2.C of Operating License Using the Consolidated Line Item Improvement Process

AGENCY: Nuclear Regulatory Commission.

ACTION: Request for comment.

SUMMARY: Notice is hereby given that the staff of the Nuclear Regulatory Commission (NRC) has prepared a model safety evaluation (SE) relating to the elimination of the license condition involving reporting of violations of other requirements (typically in License Condition 2.C) in the operating license of some commercial nuclear power plants. The NRC staff has also prepared a model no significant hazards consideration (NSHC) determination relating to this matter. The purpose of these models is to permit the NRC to efficiently process amendments that propose to delete the reporting requirement. Licensees of nuclear power reactors to which the models apply could then request amendments, confirming the applicability of the SE and NSHC determination to its reactors. The NRC staff is requesting comment on the model SE and model NSHC determination prior to announcing their availability for referencing in license amendment applications.

DATES: The comment period expires 30 days from date of publication in the Federal Register. Comments received after this date will be considered if it is practical to do so, but the Commission is able to ensure consideration only for comments received on or before this date.

ADDRESSES: Comments may be submitted either electronically or via U.S. mail.

Submit written comments to: Chief, Rules and Directives Branch, Division of Administrative Services, Office of Administration, Mail Stop T-6-D59, U.S. Nuclear Regulatory Commission, Washington, DC 20555-0001.

Hand deliver comments to 11545 Rockville Pike, Rockville, Maryland, between 7:45 a.m. and 4:15 p.m. on Federal workdays.

Copies of comments received may be examined at the NRC's Public Document Room, located at One White Flint North, 11555 Rockville Pike (first floor), Rockville, Maryland.

Comments may be submitted by electronic mail to CLIIP@nrc.gov.

FOR FURTHER INFORMATION CONTACT: William Reckley, Mail Stop: O-7D1, Division of Licensing Project Management, Office of Nuclear Reactor Regulation, U.S. Nuclear Regulatory Commission, Washington, DC 20555-0001, telephone 301-415-1323.

SUPPLEMENTARY INFORMATION:

Background

Regulatory Issue Summary 2000-06, “Consolidated Line Item Improvement Process for Adopting Standard Technical Specification Changes for Power Reactors,” was issued on March 20, 2000. The consolidated line item improvement process (CLIIP) is intended to improve the efficiency of NRC licensing processes. The CLIIP includes an opportunity for the public to comment on a proposed change to operating licenses, including the Technical Specifications, after a preliminary assessment by the NRC staff and a finding that the change will likely be offered for adoption by licensees. This notice solicits comment on a proposed change that deletes a requirement for licensees to report violations of other requirements (typically in License Condition 2.C) of its facility's operating license. The CLIIP directs the NRC staff to evaluate any comments received for a proposed change and to either reconsider the change or announce the availability of the change for adoption by licensees. Licensees opting to apply for this proposed license amendment change are responsible for reviewing the staff's evaluation, referencing the applicable technical justifications, and providing any necessary plant-specific information. Each amendment application made in response to the notice of availability will be processed and noticed in accordance with applicable rules and NRC procedures.

Applicability

This proposal to eliminate the reporting of violations of specific requirements (typically in License Condition 2.C) of facility operating licenses is applicable to any licensee that has such a provision in its facility operating license. The NRC staff notes that many operating licenses do not contain the requirement because it was never added or was removed by a license amendment before issuance of this notice. The CLIIP also addresses similar requirements if they exist in the Administrative Section of Technical Specifications. The CLIIP does not address reporting requirements contained in operating licenses other than those specifically involving reports of violations of other requirements (typically in License Condition 2.C) of the facility operating license or requirements that restate the need to submit reports in accordance with 10 CFR 50.72, “Immediate notification requirements for operating nuclear power reactors,” and 10 CFR 50.73, “Licensee event report system.”

Public Notices

This notice requests comments from interested members of the public within 30 days of the date of publication in the Federal Register. After evaluating the comments received as a result of this notice, the NRC staff will either reconsider the proposed change or announce the availability of the change in a subsequent notice (perhaps with some changes to the safety evaluation or the proposed NSHC determination as a result of public comments). If the NRC staff announces the availability of the change, licensees wishing to adopt the change must submit an application in accordance with applicable rules and other regulatory requirements. For each application, the NRC staff will publish a notice of consideration of issuance of amendment to facility operating licenses, a proposed NSHC determination, and a notice of opportunity for a hearing. The NRC staff will also publish a notice of issuance of an amendment for each plant that receives the requested change.

Proposed Model Safety Evaluation

U.S. Nuclear Regulatory Commission, Office of Nuclear Reactor Regulation, Consolidated Line Item Improvement, Elimination of License Condition Requiring Reports of Violations of License Condition [2.C] in Facility Operating License

1.0 Introduction

By application dated [ ], [LICENSEE] (the licensee), requested an amendment to the Facility Operating License for [PLANT]. The proposed amendment would delete Section 2[X] of the Facility Operating License, which requires reporting of violations of the requirements in Section 2[C] of the Facility Operating License.

2.0 Regulatory Evaluation

A section or condition was included in the facility operating licenses issued to some nuclear power plants requiring the licensee to make reports to the Nuclear Regulatory Commission (NRC) regarding violations of other sections of the operating license (typically Section 2.C). A typical license condition reads as follows:

Except as otherwise provided in this license and its appendices, the Licensee shall report any violations of the requirements contained in Section 2.C of this license in the following manner: initial notification shall be made within 24 hours to the NRC Operations Center via the Emergency Notification System with written followup within thirty days in accordance with the procedures described in 10 CFR 50.73 (Licensee event report system).

In addition to the information provided to support licensing decisions, the NRC obtains information about plant operation, licensee programs, and other matters using a combination of inspections and reporting requirements. Routine or scheduled reports that are required to be submitted to the NRC are defined in the related regulations, specific license condition, technical specification, or an NRC-approved program document. The reporting of emergencies, unplanned events or conditions, and other special cases may also be addressed within such documents by the inclusion of reporting thresholds and are also the focus of the reporting requirements in 10 CFR 50.72, “Immediate notification requirements for operating nuclear power reactors,” and 10 CFR 50.73, “Licensee event report system.” Changes to the reporting regulations in 10 CFR 50.72 and 50.73 became effective in January 2001 (see Federal Register notice on October 25, 2000 (65 FR 63769) and included extending the allowable reporting times for licensee event reports (LERs) from 30 days to 60 days.

[Optional: The Administrative Section of the Technical Specifications (TS) for [PLANT] also includes a reporting requirement that duplicates the requirements in 10 CFR 50.72 and 10 CFR 50.73, but which does not reflect subsequent changes in those regulations such as requiring LERs within 60 days instead of 30 days.]

3.0 Technical Evaluation

Section 2.[X] of the Facility Operating License requires the licensee to report any violations of the requirements of Section 2[C] of the Facility Operating License and defines the method and allowable time periods for such reports. The reporting threshold (i.e., a violation) for some of the conditions included in Section 2.[C] of the Facility Operating License duplicates those defined in 10 CFR 50.72 and 10 CFR 50.73. However, the requirements in the Facility Operating License may have different deadlines than those defined in the regulations (following a rule change in 2001). This difference in reporting requirements has led to variations in reporting since many facility operating licenses do not contain the subject condition. For those licensees with a 30-day reporting requirement in the Facility Operating License, the condition has decreased the benefits of the rulemaking. For those cases where the current Facility Operating License requirement to report violations is also reportable in accordance with the regulations defined in 10 CFR 50.72 and 10 CFR 50.73, the NRC staff finds that the regulations adequately address this issue and the elimination of the duplicative requirement in the Facility Operating License is acceptable.

Some of the conditions addressed in Section 2.[C] of the Facility Operating License may address the maintenance of particular programs, administrative requirements, or other matters where a violation of the requirement would not result in a report to the NRC in accordance with 10 CFR 50.72 or 10 CFR 50.73. In most cases, there are requirements for reports to the NRC related to these conditions in other regulations, the specific license condition or technical specification, or an NRC-approved program document. In other cases, there are reports to other agencies or news releases that would prompt a report to the NRC (in accordance with 10 CFR 50.72(b)(2)(xi)). The NRC staff also assessed violations of administrative requirements that could be reportable under the current License Condition but that may not have a dupicative requirement in a regulation or other regulatory requirement. The NRC staff finds that the requirements to report such problems within 24 hours with written reports to follow using the LER process is not needed. The NRC staff is confident that the information related to such violations that is actually important to the NRC's regulatory functions would come to light in a time frame comparable to the 60-day LER requirements. The information would become available to the appropriate NRC staff through the inspection program, updates to program documents, resultant licensing actions, public announcements, or some other reliable mechanism.

The NRC staff finds that the elimination of Section 2.[X] of the Facility Operating License will not result in a loss of information to the NRC that would adversely affect either its goal to protect public health and safety or its ability to carry out its various other regulatory responsibilities.

[Optional: The reporting requirement defined in TS [5.x.x] for [PLANT] requires a report to the NRC when [REPORT REQUIREMENT]. This requirement duplicates the requirements in 10 CFR 50.72 and 10 CFR 50.73, but does not reflect subsequent changes in those regulations such as requiring LERs within 60 days instead of 30 days. The NRC staff finds the elimination of the TS requirement acceptable since the required reports are defined in an established NRC regulation that is also applicable to this licensee.]

4.0 State Consultation

In accordance with the Commission's regulations, the [ ] State official was notified of the proposed issuance of the amendment. The State official had no comments.

5.0 Environmental Consideration

The amendment changes recordkeeping, reporting, or administrative procedures or requirements. Accordingly, the amendment meets the eligibility criteria for categorical exclusion set forth in 10 CFR 51.22(c)(10). Pursuant to 10 CFR 51.22(b), no environmental impact statement or environmental assessment need be prepared in connection with the issuance of the amendment.

6.0 Conclusion

The Commission has concluded, based on the considerations discussed above, that (1) there is reasonable assurance that the health and safety of the public will not be endangered by operation in the proposed manner, (2) such activities will be conducted in compliance with the Commission's regulations, and (3) the issuance of the amendment will not be inimical to the common defense and security or to the health and safety of the public.

Proposed No Significant Hazards Consideration Determination

Description of Amendment Request: The proposed amendment would delete Section 2.[X] of the Facility Operating License, which requires reporting of violations of the requirements in Section 2.[C] of the Facility Operating License. [The proposed amendment would also delete a reporting requirement in Technical Specifications that is duplicative of NRC regulations.]

Basis for proposed no significant hazards consideration determination: As required by 10 CFR 50.91(a), an analysis of the issue of no significant hazards consideration is presented below:

1. Does the change involve a significant increase in the probability or consequences of an accident previously evaluated?

Response: No.

The proposed change involves the deletion of a reporting requirement. The change does not affect plant equipment or operating practices and therefore does not significantly increase the probability or consequences of an accident previously evaluated.

2. Does the change create the possibility of a new or different kind of accident from any accident previously evaluated?

Response: No.

The proposed change is administrative in that it deletes a reporting requirement. The change does not add new plant equipment, change existing plant equipment, or affect the operating practices of the facility. Therefore, the change does not create the possibility of a new or different kind of accident from any accident previously evaluated.

3. Does the proposed change involve a significant reduction in a margin of safety?

Response: No.

The proposed change deletes a reporting requirement. The change does not affect plant equipment or operating practices and therefore does not involve a significant reduction in a margin of safety.

Based on the above, the NRC staff proposes that the change presents no significant hazards consideration under the standards set forth in 10 CFR 50.92(c).

Dated at Rockville, Maryland, this 22nd of August, 2005.
For the Nuclear Regulatory Commission.
William D. Reckley,
Senior Project Manager, Section 1, Project Directorate IV, Division of Licensing Project Management, Office of Nuclear Reactor Regulation.

[FR Doc. E5-4710 Filed 8-26-05; 8:45 am]

BILLING CODE 7590-01-P